SOCIAL SECURITY ADMINISTRATION

[Docket No. SSA-2021-0031]

Privacy Act of 1974; Matching Program

AGENCY: Social Security Administration (SSA).

ACTION: Notice of a new matching program.

SUMMARY: In accordance with the provisions of the Privacy Act, as amended, this notice announces a new matching program with the Department of Veterans Affairs (VA), Veterans Benefits Administration. Under this matching program, VA will provide SSA with VA compensation and pension payment data. SSA will use the data to determine the eligibility or amount of payment for Supplemental Security Income (SSI) or Special Veterans Benefit (SVB) recipients. SSA will also identify the income of individuals who may be eligible for Medicare cost-sharing assistance through the Medicare Savings Programs (MSP) as part of the agency's Medicare outreach efforts.

DATES: The deadline to submit comments on the proposed matching program is April 14, 2022. The matching program will be applicable on May 11, 2022, or once a minimum of 30 days after publication of this notice has elapsed, whichever is later. The matching program will be in effect for a period of 18 months.

ADDRESSES: You may submit comments by any one of three methods—internet, fax, or mail. Do not submit the same comments multiple times or by more than one method. Regardless of which method you choose, please state that your comments refer to Docket No. SSA-2021-0031 so that we may associate your comments with the correct regulation. CAUTION: You should be careful to include in your comments only information that you wish to make publicly available. We strongly urge you not to include in your comments any personal information, such as Social Security numbers or medical information.

1. Internet: We strongly recommend that you submit your comments via the internet. Please visit the Federal eRulemaking portal at http://www.regulations.gov. Use the Search function to find docket number SSA-2021-0031 and then submit your comments. The system will issue you a tracking number to confirm your submission. You will not be able to view your comment immediately because we must post each submission manually. It may take up to a week for your comments to be viewable.

2. Fax: Fax comments to (410) 966-0869.

3. Mail: Matthew Ramsey, Executive Director, Office of Privacy and Disclosure, Office of the General Counsel, Social Security Administration, G-401 WHR, 6401 Security Boulevard, Baltimore, MD 21235-6401, or emailing Matthew.Ramsey@ssa.gov. Comments are also available for public viewing on the Federal eRulemaking portal at http://www.regulations.gov or in person, during regular business hours, by arranging with the contact person identified below.

FOR FURTHER INFORMATION CONTACT: Interested parties may submit general questions about the matching program to Melissa Feldhan, Division Director, Office of Privacy and Disclosure, Office of the General Counsel, Social Security Administration, G-401 WHR, 6401 Security Boulevard, Baltimore, MD 21235-6401, at telephone: (410) 965-1416, or send an email to Melissa.Feldhan@ssa.gov.

SUPPLEMENTARY INFORMATION: None.

Matthew Ramsey,
Executive Director, Office of Privacy and Disclosure, Office of the General Counsel.

Participating Agencies

SSA and VA.

Authority for Conducting the Matching Program

The legal authorities for SSA to conduct this matching program are sections 806(b), 1144, and 1631(e)(1)(B) and (f) of the Social Security Act (Act) (42 U.S.C. 1006(b), 1320b-14, and 1383(e)(1)(B) and (f)).

The legal authority for VA to disclose information under this matching program is section 1631(f) of the Act (42 U.S.C. 1383(f)), which requires Federal agencies to provide such information as the Commissioner of Social Security needs for purposes of determining eligibility for or amount of benefits, or verifying other information with respect thereto.

Purpose(s)

This matching program establishes the conditions under which VA will provide SSA with information necessary to: (1) Identify certain SSI and SVB recipients under Title XVI and Title VIII of the Act, respectively, who receive VA-administered benefits; (2) determine the eligibility or amount of payment for SSI and SVB recipients; and (3) identify the income of individuals who may be eligible for Medicare cost-sharing assistance through the MSP as part of the agency's Medicare outreach efforts.

Categories of Individuals

The individuals whose information is involved in this matching program are those individuals who are receiving VA compensation or pension benefits and SSI or SVB benefits.

Categories of Records

VA will provide SSA with electronic files containing compensation and pension payment data. SSA will match the VA data with its SSI/SVB payment information. SSA will conduct the match using the Social Security number, name, date of birth, and VA claim number on both the VA file and the SSI Record and SVB system of records (SOR).

System(s) of Records

VA will provide SSA with electronic files containing compensation and pension payment data from its SOR entitled the “Compensation, Pension, Education, and Vocational Rehabilitation and Employment Records—VA” (58VA21/22/28), republished with updated name at 74 FR 14865 (April 1, 2009) and last amended at 84 FR 4138 (February 14, 2019). Routine use 30 of 58VA21/22/28 permits disclosure of the subject records for matching purposes.

SSA will match the VA data with SSI/SVB payment information maintained in its SOR entitled “Supplemental Security Income Record and Special Veterans Benefits” (60-0103), last fully published at 71 FR 1830 (January 11, 2006), and amended at 72 FR 69723 (December 10, 2007), 83 FR 31250-31251 (July 3, 2018), and 83 FR 54969 (November 1, 2018).

[FR Doc. 2022-05387 Filed 3-14-22; 8:45 am]

BILLING CODE 4191-02-P